DEPARTMENT OF AGRICULTURE

Forest Service

Plumas National Forest; California; Flea Project (Renamed Concow Hazardous Fuels Reduction Project)

AGENCY: Forest Service, USDA.

ACTION: Corrected notice of intent to prepare an environmental impact statement.

SUMMARY: With the decline of forestland density reduction treatments, overcrowded conditions have increased, forestland diversity has declined, California's wildfires have gotten larger, firefighting costs have skyrocketed, and resource and property damage have increased. In 2008, the Butte Lightning Complex burned about 6,190 acres within the 8,170 acre Concow Project Area.

In response, the USDA Forest Service, Feather River District Ranger of the Plumas National Forest, 875 Mitchell Avenue, Oroville, CA 95965, and the USDI Bureau of Land Management, Northern California Redding Field Office Manager, 355 Hemsted Drive, Redding, CA 96002, are cooperating to prepare the Concow Hazardous Fuels Reduction Project Environmental impact Statement. The USDA, Forest Service. Feather River Ranger District of the Plumas National Forest is the lead agency preparing a draft EIS on a proposal to establish, develop and maintain an irregularly shaped network of up to ½ mile wide Defensible Fuels Profile Zones (DFPZs) on USDA Forest Service (1,478 acres) and USDI Bureau of Land Management (32 acres) administered land, within the Wildiand Urban Interface. The Concow Project aims to establish Defensible Fuels Profile Zones (DFPZs), implement forestland density reduction treatments and post-fire dead and dying hazardous tree removal, while simultaneously improving local economic health by employing area workers. The DFPZs would be located within and west of the 2008 Butte Lightning Complex Fire perimeter, designed to improve the capacity of effective, traditional approaches to fire suppression and fire-fighting readiness, along with facilitating private land efforts. DFPZs would connect existing and proposed Federal and private land fuel breaks and parallel residential evacuation routes and primary fire suppression access routes. Additionally, treatments would integrate the enhancement of degraded oak woodlands and reforestation of fire-damaged plantations.

DATES: Comments concerning the scope of the analysis must be received within 45 days from the date of publication in the Federal Register. The draft environmental impact statement is expected November 2009 and the fmal environmental impact statement is expected January 2010.

ADDRESSES: Send written comments to the USDA Forest Service, Feather River Ranger District, 875 Mitchell Avenue, Oroville, CA 95965. Comments may also be sent via e-mail to cspinos@fs.fed.us, electronically mailed to comments-pacificsouthwest-plumas@fs.fed.us or via facsimile to (530) 532-1210.

It is important that reviewers provide their comments at such times and in such a way that they are useful to the Agency's preparation of the EIS. Therefore, comments should be provided prior to the close of the comment period and should clearly articulate the reviewer's concerns and contentions.

Comments received in response to this solicitation including names and addresses of those who comment, will be part of the public record for this proposed action. Comments submitted anonymously will be accepted and considered, however.

FOR FURTHER INFORMATION CONTACT: Carol Spinos, Interdisciplinary Team Leader at (530) 534-6500 or (530) 532-8932.

Individuals who use telecommunication devices for the deaf (TDD) may call the Federal Information Relay Service (FIRS) at 1-800-877-8339 between 8 a.m. and 8 p.m., Eastern Time, Monday through Friday.

SUPPLEMENTARY INFORMATION: A notice of intent to prepare an EIS for the Flea Project, designed to fulfill the Herger Feinstein Quincy Library Group Forest Recovery Act of 1988, was published in the Federal Register on Thursday, August 30, 2007 (Vol. 72, No.168, pp. 50096-50098). In June, 2008, a series of lightning strikes ignited numerous forest fires, which over several months merged, burning through the central and eastern portions of the Flea Project Area. This complex of fires, subsequently referred to as the Butte Lightning Complex, dramatically changed the landscape for the long-term. In September 2008, the Feather River Ranger District, of the Plumas National Forest, began the process to determine the scope (the depth and breadth) of the 2008 wildfire disturbance on the environment. At that time, the draft Flea Project EIS was being prepared. In December 2008, after field reconnaissance was completed, the Forest Service, Plumas National Forest, determined to divide the Flea Project Area into two individual management units and projects. The westerly, unburned portion and the fire damaged, central portion of the Flea Project Area, located alongside communities in the Wildland Urban Interface, to be documented in one EIS. A draft EIS will be prepared with a modified purpose and need; renamed the Concow Hazardous Fuels Reduction Project. The easterly portion of the Flea Project Area, affected by predominantly low severity wildfire, is to be deferred.

The portion of the proposed action located on USDA Forest Service administered land is designed to meet the standards and guidelines for land management activities in the Plumas National Forest Land and Resource Management Plan (1988), as amended by the Herger-Feinstein Quincy Library Group (FIFQLG) Final Supplemental Environmental Impact Statement (FSEIS) and Record of Decision (ROD) (1999, 2003), legislatively extended from 2009 to 2012, per the Consolidated Appropriations Act (HR 2754), as amended by the Sierra Nevada Forest Plan Amendment FSEIS and ROD (2004). Additionally, in December 2007, the Consolidated Appropriations Act, 2008 (H.R. 2764), stated that the 2003-adopted Healthy Forests Restoration Act (HFRA: Public Law 108-148) applies to HFQLG projects.

The Healthy Forests Restoration Act (HFRA) of 2003 (16 U.S.C. at 1611-6591) emphasizes public collaboration processes for developing and implementing hazardous fuel reduction projects on certain types of “at-risk” National Forest System Land, and also provides other authorities and direction to help restore healthy forests.

The portion of the proposed action located on USDI Bureau of Land Management administered land is designed to meet the standards and guidelines for land management activities in the Redding Resource Management Plan (1993). Purpose and Need for Action The USDA Forest Service and USDI Bureau of Land Management propose to: (1) Reduce risk to rural communities from high intensity wildfires; (2) establish and maintain Defensive Fuel Profile Zones (DFPZs), linking Federal and private land, to further collaborative fire prevention and suppression efforts to improve the capability to control and contain wildfire; (3) restore recent fire-damaged forests to promote forest health and wildlife habitat diversity; and (4) contribute to the stability and economic health of local communities.

The presence of overcrowded forests and fire-damaged vegetation would sustain high intensity fire behavior, in the event of ignition. High concentrations of forest, woody, standing and ground hazardous fuels, particularly adjacent to homes, challenge fire suppression tactics aimed at controlling and containing wildfire. Hazardous fuels need to be removed and/or rearranged to reduce threats to communities at a high risk to destructive wildfire. Additionally, wildfire disturbance has functioned to shift species composition, simplify vegetative structure and reduce age-class diversity. Post-fire re-growth in oak dominated ecosystems have become overcrowded, choking migratory routes for various wildlife species. Wildfire also destroyed plantations, which are now under-stocked.

The project would reduce tree densities in overcrowded forests, remove dead and dying scorched trees, and reduce surface hazardous fuels to establish DFPZs up to ½ mile wide within the Wildland Urban Interface, beginning in 2010. Roadside danger trees that pose a safety hazard to the public along access routes would also be removed. Fire-damaged plantations would be re-planted during the initial entry. Two maintenance treatments would occur over a 10 year period. The project is located in all or portions of sections 2, 12, 24, T23N, R3E; 6, 18, 30, 32. 34, 36, T23N, R4E; 2, 12, 14, 22, T22N, R4E; in Butte County, California.

Proposed Action

The proposed action would initially establish DFPZs by reducing hazardous ladder and canopy fuels by applying a combination of thinning-from-below and radial release on 217 acres in the unburned areas. Dead and dying tree removal would occur on 320 acres in areas burned in 2008. Surface fuels in burned and unburned areas would be treated by applying mastication on 671 acres, chipping on 385 acres, lopping and scattering on 118 acres, hand cutting, hand-piling and pile burning on 666 acres, and prescribed under burning treatments on 117 acres. Defensible Fuels Profile Zones would be maintained by applying mastication on 671 acres, lopping and scattering on 118 acres, hand-cutting, hand-piling and pile burning on 666 acres, and prescribed under burning of surface fuels treatments on 468 acres, from 2 to 5 years after the initial treatments, depending on site conditions. Similar secondary maintenance treatments would be applied from 7 to 9 years after the initial treatments, depending on site conditions. Within unburned areas canopy cover would be reduced to approximately 40 to 50 percent in the California Wildlife Habitat Relationships (CWHR) system Size Class 4 stands (trees 11-24 inches diameter at breast height [dbh]) and Size Class 5 stands (greater than 24 inches dbh), where it presently exceeds that amount. Conifers ranging from 9.0 to 29.9 inches dbh would be removed as necessary and processed as sawlogs. Harvested hardwoods less than 6 inches dbh, and conifers 3.0 to 8.9 inches dbh are considered biomass and would be piled and burned or removed from units and processed at appropriate facilities. All trees 30 inches dbh or larger would be retained, unless removal is required for operability (e.g., new skid trails, landings, or temporary roads). Residual spacing of conifers would be a mosaic of even and clumpy spacing depending on the characteristics of each stand prior to implementation. CWHR Size Class 3 stands (averaging 6-11 inches dbh) and plantations would not have any canopy cover restrictions and would be thinned to residual spacing of approximately 18 to 22 feet (±25 percent), depending on average residual tree size and forest health conditions, to allow retention of the healthiest, largest, and tallest 6 conifers and black oaks. Radial thinning or release will occur around large diameter black oak and the healthiest growing sugar pine, or ponderosa pine >24 inches in diameter on a per acre basis. Radial thinning would correlate to tree DBH. All mechanized thinning and biomass removal in DFPZ units would be conducted with feller buncher equipment. Shrubs would be masticated, as would trees less than 9 inches dbh unless needed for proper canopy cover and spacing. Equipment restriction zone widths within Riparian Habitat Conservation Areas (RHCAs) would range from 25-150 feet, depending on environmental conditions. Hand cutting and pile burning would be used to reduce fuels in RHCAs and other areas where mechanical equipment is not allowed. In burned areas, dead trees with commercial value greater than 20 inches in diameter in excess of wildlife needs will be removed utilizing helicopter and/or ground based logging systems. Dead non-merchantable trees 12 to 19.9 inches will be removed and disposed of by one of the following ways; chipped, incinerated or as firewood. Shrubs would be masticated, as would trees up to 12 inches in diameter. In units with limited accessibility, trees up to 19.9 inches will be masticated. Black oak stump sprouts will be left untreated at an approximate spacing of 18-25 feet, with mastication in between. Fire-injured trees may be removed in order to meet post-fire fuels and operational objectives. Snags would be retained in snag retention areas, and in treatment areas at a minimum of 2 snags per acre and up to 4 snags per acre (exception is along the Rim Road, where either all snags would be removed or up to 2 snags per acre would be retained). Approximately 30 acres would be required for log and biomass landing activities. No new road construction would be required. Approximately 56 acres of fire-damaged plantations would be reforested and 40 acres of “spot planting” with conifer seedlings would occur in widely spaced clusters to emulate a naturally established forest. The areas would be reforested with a mixture of native species. In both burned and unburned areas, manual cutting of shrubs, trees 1 to 9 inches dbh, and/or thinning aggregations of 1 to 9 inches dbh conifers or plantation trees would occur.

Possible Alternatives

In addition to the proposed action, two other alternatives would be analyzed, a no action alternative (alternative A), and an action alternative consistent with the 2001 SNFPA ROD (alternative C).

Lead and Cooperating Agencies

The USDA, Forest Service is the lead agency for this proposal. The USDI, Bureau of Land Management is a cooperating agency for the purpose of this EIS.

Responsible Official

USDA Forest Service, Feather River District Ranger of the Plumas National Forest and the USDI Bureau of Land Management, Northern California Redding Field Manager are the Responsible Officials.

Nature of Decision To Be Made

The decision to be made is whether to: (1) Implement the proposed action; (2) meet the purpose and need for action through some other combination of activities; or, (3) take no action at this time.

Preliminary Issues

The proposed action may increase adverse effects to water and other aquatic dependent resources in municipal watersheds, already considered highly disturbed. Specifically, implementing ground-disturbing activities in watersheds that are already over the threshold of concern may increase the risk of adverse and cumulative watershed effects. The proposed action may increase adverse cumulative loss of snag (post-fire dead tree) habitat, already depleted over roughly 8,000 acres in surrounding areas, along with the species that are dependent on them for nesting and roosting.

Permits or Licenses Required

An Air Pollution Permit and a Smoke Management Plan are required by local agencies.

Scoping Process

This notice of intent initiates the scoping process, which guides the development of the environmental impact statement. A public field trip will be held on October 10, 2009, starting at 9 a.m, leaving from the Pines Yankee Hill Hardware Store, 11 300A Highway 70, Oroville, CA 95965.

It is important that reviewers provide their comments at such times and in such a manner that they are useful to the agency's preparation of the environmental impact statement. Therefore, comments should be provided prior to the close of the comment period and should clearly articulate the reviewer's concerns and contentions. The submission of timely and specific comments can affect a reviewer's ability to participate in subsequent administrative appeal or judicial review.

Dated: September 14, 2009.
Karen L. Hayden,
Feather River District Ranger.

[FR Doc. E9-22952 Filed 9-23-09; 8:45 am]

BILLING CODE 3410-11-M